NATIONAL AERONAUTICS AND SPACE ADMINISTRATION

[Notice (01-124)]

NASA Advisory Council, Biological and Physical Research Advisory Committee Meeting, NASA-NIH Advisory Subcommittee and Life Sciences Advisory Subcommittee; Joint Meeting

AGENCY: National Aeronautics and Space Administration.

ACTION: Notice of Meeting.

SUMMARY: In accordance with the Federal Advisory Committee Act, Pub. L. 92-463, as amended, the National Aeronautics and Space Administration announces a meeting of the NASA Advisory Council, Biological and Physical Research Advisory Committee, NASA-NIH Advisory Subcommittee and Life Sciences Advisory Subcommittee; Joint Meeting.

DATES: Wednesday, October 24, 2001, 8 a.m. to 5 p.m.

ADDRESSES: American Management Association, 440 First St.,NW., Washington, DC 20001.

FOR FURTHER INFORMATION CONTACT: Dr. David Tomko, Code UB, National Aeronautics and Space Administration, Washington, DC 20546, 202/358-0220.

SUPPLEMENTARY INFORMATION: The meeting will be open to the public up to the seating capacity of the room. The agenda for the meeting is as follows:

—Action Status

—Bioastronautics Research Division Update

—Fundamental Biology Research Division Update

—NASA-NIH Interaction Reports

— Update from OBPR Acting Associate Administrator

—Report on Status of Enhancement of OBPR Educational and Public Outreach Programs—Coordination with Other Codes

—Science Talk

—Biomedical Research Program Update

—Integrating Crew Health Maintenance and Biomedical Research

—Preparation of Committee Findings and Recommendations

—Review of Committee Findings and Recommendations

It is imperative that the meeting be held on this date to accommodate the scheduling priorities of the key participants. Visitors will be requested to sign a visitor's register.

Beth M. McCormick,
Advisory Committee Management Officer, National Aeronautics and Space Administration.

[FR Doc. 01-26055 Filed 10-16-01; 8:45 am]

BILLING CODE 7510-01-P